DEPARTMENT OF TRANSPORTATION

Federal Aviation Administration

14 CFR Part 39

[Docket No. FAA-2012-1134; Directorate Identifier 2012-CE-034-AD; Amendment 39-17345; AD 2013-03-10]

RIN 2120-AA64

Airworthiness Directives; Lindstrand Hot Air Balloons Ltd Appliances

AGENCY: Federal Aviation Administration (FAA), Department of Transportation (DOT).

ACTION: Final rule.

SUMMARY: We are adopting a new airworthiness directive (AD) for certain Lindstrand Hot Air Balloons Ltd female ACME threaded hose connectors, part numbers HS6139 and HS6144, installed on balloons. This AD results from mandatory continuing airworthiness information (MCAI) issued by an aviation authority of another country to identify and correct an unsafe condition on an aviation product. The MCAI describes the unsafe condition as insufficient tightness of the threaded hose connector in the assembly area that could result in fuel leakage. We are issuing this AD to require actions to address the unsafe condition on these products.

DATES: This AD is effective March 19, 2013.

The Director of the Federal Register approved the incorporation by reference of a certain publication listed in the AD as of March 19, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Lindstrand Hot Air Balloons Ltd, Maesbury Road, Oswestry, Shropshire SY10 8ZZ, The United Kingdom; telephone: +44 (0) 1691-671717; fax: +44 (0) 1691-671122; email: simon@lindstrand.co.uk; Internet: http://www.lindstrand.co.uk/. You may review copies of the referenced service information at the FAA, Small Airplane Directorate, 901 Locust, Kansas City, Missouri 64106. For information on the availability of this material at the FAA, call (816) 329-4148.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Discussion

We issued a notice of proposed rulemaking (NPRM) to amend 14 CFR part 39 to include an AD that would apply to the specified products. That NPRM was published in the Federal Register on October 23, 2012 (77 FR 64763). That NPRM proposed to correct an unsafe condition for the specified products. The MCAI states:

Three incidents were reported where the female ACME threaded connectors (Rego type) was leaking when connected to the gas cylinder with the cylinder valve turned on.

The results of the technical investigations revealed the possibility that other similar connectors produced between 01 January 2011 and 01 September 2011 might not have been assembled with sufficient tightness. A list of potentially affected connectors has been drawn up Table 1 of this AD. A list of burners and manifolds on which it is already known that an affected connector has been installed is provided in Table 2 of this AD.

This condition, if not detected and corrected, could result, in case of an ignition source, in a fire hazard that could damage the balloon and its envelope, ultimately leading to a forced emergency landing, during which balloon occupants and persons on the ground could be injured.

To address this potential unsafe condition, Lindstrand Hot Air Balloons Ltd. (who manufactured the hose assemblies) issued Service Bulletin (SB) N° 12, which, for the affected parts, requires accomplishment of an inspection of the female ACME thread hose connectors.

For the reasons described above, EASA issued AD 2012-0142, to require an inspection of the female ACME thread hose connectors for leakage, and, depending on findings, to re-torque the connectors using correct values.

Since that AD was issued, it has been determined that the pilot-owner of the balloon can accomplish the inspection of the affected parts to identify the leak. In addition, the risk assessment has been reconsidered, which has led to the conclusion that the compliance time for the inspection can be extended to 60 days after the effective date of the date at original issue. Similarly, as most of the parts have now been inspected and, depending on findings, corrected, it was possible to delete paragraph (3) from the AD, dealing with spare parts.

Although the European Aviation Safety Agency (EASA) MCAI allows the pilot-owner to do the inspection and correction required in paragraphs (f)(1), (f)(2), and (f)(3) of this AD, the U.S. regulatory system requires all actions of this AD be done by a certified mechanic.

Comments

We gave the public the opportunity to participate in developing this AD. The following presents the comments received on the proposal and the FAA's response to each comment.

Request To Change Applicability or Withdraw NPRM

Phil A. Thompson, President of ARBC, Inc. dba/Lindstrand Balloons USA, requests we reduce the applicability of the AD or withdraw the NPRM. The commenter states that the unsafe condition applies to only the specific female ACME threaded hose connectors, part numbers HS6139 and HS6144, produced during a certain time period.

The FAA disagrees with reducing the applicability or withdrawing the NPRM. While we agree that the unsafe condition exists only on the specific female ACME threaded hose connectors, part numbers HS6139 and HS6144; we cannot determine which balloons have the defective parts installed. We also cannot determine the exact serial numbers produced during the certain time period referenced by the commenter to limit the applicability to parts produced during that time period. Neither the FAA nor EASA has received any documentation to prove that the defective parts are limited to the 23 parts referenced by the commenter.

We have not changed the final rule AD action based on this comment.

Conclusion

We reviewed the relevant data, considered the comment received, and determined that air safety and the public interest require adopting the AD as proposed except for minor editorial changes. We have determined that these minor changes:

• Are consistent with the intent that was proposed in the NPRM (77 FR 64763, October 23, 2012) for correcting the unsafe condition; and

• Do not add any additional burden upon the public than was already proposed in the NPRM (77 FR 64763, October 23, 2012).

Costs of Compliance

We estimate that this AD will affect 2,170 products of U.S. registry. We also estimate that it would take about .5 work-hour per product to comply with the basic requirements of this AD. The average labor rate is $85 per work-hour.

Based on these figures, we estimate the cost of the AD on U.S. operators to be $92,225, or $42.50 per product.

In addition, we estimate that any necessary follow-on actions would take about .5 work-hour. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-10 Lindstrand Hot Air Balloons Ltd: Amendment 39-17345; Docket No. FAA-2012-1134; Directorate Identifier 2012-CE-034-AD.

(a) Effective Date

This airworthiness directive (AD) becomes effective March 19, 2013.

(b) Affected ADs

None.

(c) Applicability

This AD applies to all hot air balloons, certificated in any category, equipped with Lindstrand Hot Air Balloons Ltd female ACME threaded hose connectors, part numbers (P/Ns) HS6139 and HS6144, all serial numbers.

(d) Subject

Air Transport Association of America (ATA) Code 14: Hardware.

(e) Reason

This AD was prompted by mandatory continuing airworthiness information (MCAI) originated by an aviation authority of another country to identify and correct an unsafe condition on an aviation product. The MCAI describes the unsafe condition as insufficient tightness of the threaded hose connector in the assembly area that could result in fuel leakage. We are issuing this AD to detect and correct insufficient tightness of the threaded hose connector in the assembly area. This condition, if not corrected, could result in fuel leakage and lead to an inflight fire.

(f) Actions and Compliance

Unless already done, do the following actions:

(1) Within the next 60 days after March 19, 2013 (the effective date of this AD), inspect the female ACME threaded hose connectors, (P/Ns) HS6139 and HS6144, for leaking following the Accomplishment Instructions of Lindstrand Hot Air Balloons Ltd Service Bulletin No. 12, Issue 2, dated May 10, 2012.

(2) If fuel leakage is detected in the inspection required in paragraph (f)(1) of this AD, before further flight, tighten the threaded hose connector to the correct torque following Lindstrand Hot Air Balloons Ltd Service Bulletin No. 12, Issue 2, dated May 10, 2012.

(3) If, after March 19, 2013 (the effective date of this AD), you install on any balloon an ACME threaded hose connector, (P/Ns) HS6139 or HS6144, manufactured by Lindstrand Hot Air Balloons Ltd and supplied as a spare part between January 1, 2011, and September 1, 2011, before further flight, you must comply with the actions of this AD.

(4) Although the European Aviation Safety Agency (EASA) MCAI allows the pilot-owner to do the inspection and correction required in paragraphs (f)(1), (f)(2), and (f)(3) of this AD, the U.S. regulatory system requires all actions of this AD be done by a certified mechanic.

(g) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency AD 12-053, dated May 25, 2012; and Lindstrand Hot Air Balloons Ltd Service Bulletin No. 12, Issue 2, dated May 10, 2012, for related information.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Lindstrand Hot Air Balloons Ltd Service Bulletin No. 12, Issue 2, dated May 10, 2012.

(ii) Reserved.

(3) For Lindstrand Hot Air Balloons Ltd service information identified in this AD, contact Lindstrand Hot Air Balloons Ltd, Maesbury Road, Oswestry, Shropshire SY10 8ZZ, The United Kingdom; telephone: +44 (0) 1691-671717; fax: +44 (0) 1691-671122; email: simon@lindstrand.co.uk; Internet: http://www.lindstrand.co.uk/.

(4) You may review this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/index.html.

Issued in Kansas City, Missouri, on February 1, 2013.
Earl Lawrence,
Manager, Small Airplane Directorate, Aircraft Certification Service.

[FR Doc. 2013-02720 Filed 2-11-13; 8:45 am]

BILLING CODE 4910-13-P